DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Jefferson (FEMA Docket No.: B-1308) | City of Bessemer (12-04-6774P) | The Honorable Kenneth E. Gulley, Mayor, City of Bessemer, 1800 3rd Avenue North, Bessemer, AL 35020 | City Hall, Engineering Department, 1800 3rd Avenue North, Bessemer, AL 35020 | May 23, 2013 | 010115
Shelby (FEMA Docket No.: B-1298) | City of Alabaster (13-04-0812P) | The Honorable Marty Handlon, Mayor, City of Alabaster, City Hall, 201 1st Street North, Alabaster, AL 35007 | Building Safety Department, 200 Depot Street, Alabaster, AL 35007 | May 1, 2013 | 010192
Tuscaloosa (FEMA Docket No.: B-1298) | City of Tuscaloosa (12-04-4271P) | The Honorable Walter Maddox, Mayor, City of Tuscaloosa, 2201 University Boulevard, Tuscaloosa, AL 35401 | Engineering Department, 2201 University Boulevard, Tuscaloosa, AL 35401 | May 10, 2013 | 010203
Arizona:
Cochise (FEMA Docket No.: B-1308) | City of Sierra Vista (12-09-2774P) | The Honorable Rick Mueller, Mayor, City of Sierra Vista, 1011 North Coronado Drive, Sierra Vista, AZ 85635 | Planning and Zoning Department, 1011 North Coronado Drive, Sierra Vista, AZ 85635 | May 20, 2013 | 040017
California:
Contra Costa (FEMA Docket No.: B-1314) | City of Pittsburg (12-09-2983P) | The Honorable Ben Johnson, Mayor, City of Pittsburg, 65 Civic Avenue, Pittsburg, CA 94565 | City Hall, Engineering Records Section, 65 Civic Avenue, Pittsburg, CA 94565 | May 6, 2013 | 060033
Riverside (FEMA Docket No.: B-1298) | City of Corona (12-09-1650P) | The Honorable Jason Scott, Mayor, City of Corona, 400 South Vicentia Avenue, Corona, CA 92882 | Public Works Department, 400 South Vicentia Avenue, Corona, CA 92882 | May 3, 2013 | 060250
Riverside (FEMA Docket No.: B-1298) | City of Indian Wells (12-09-3142P) | The Honorable Douglas H. Hanson, Mayor, City of Indian Wells, 44-950 Eldorado Drive, Indian Wells, CA 92210 | City Hall, 44-950 Eldorado Drive, Indian Wells, CA 92210 | May 2, 2013 | 060254
Riverside (FEMA Docket No.: B-1308) | City of Murrieta (12-09-0685P) | The Honorable Rick Gibbs, Mayor, City of Murrieta, 24601 Jefferson Avenue, Murrieta, CA 92562 | Public Works and Engineering Department, 26442 Beckman County, Murrieta, CA 92562 | May 24, 2013 | 060751
Riverside (FEMA Docket No.: B-1298) | City of Norco (12-09-1650P) | The Honorable Kathy Azevedo, Mayor, City of Norco, 2870 Clark Avenue, Norco, CA 92860 | City Hall, 2870 Clark Avenue, Norco, CA 92860 | May 3, 2013 | 060256
Riverside (FEMA Docket No.: B-1308) | City of Temecula (12-09-0685P) | The Honorable Michael S. Naggar, Mayor, City of Temecula, 41000 Main Street, Temecula, CA 92590 | City Hall, 43200 Business Park Drive, Temecula, CA 92590 | May 24, 2013 | 060742
San Bernardino (FEMA Docket No.: B-1298) | City of Victorville (12-09-2880P) | The Honorable Jim Cox, Mayor, City of Victorville, P.O. Box 5001, Victorville, CA 92393 | City Hall, Planning Department, 14343 Civic Drive, Victorville, CA 92393 | May 3, 2013 | 065068
Santa Clara (FEMA Docket No.: B-1308) | City of Milpitas (13-09-0070P) | The Honorable Jose Esteves, Mayor, City of Milpitas, 455 East Calaveras Boulevard, Milpitas, CA 95035 | Engineering Division, 455 East Calaveras Boulevard, Milpitas, CA 95035 | May 24, 2013 | 060344
Colorado:
Jefferson (FEMA Docket No.: B-1314) | Unincorporated areas Jefferson County (12-08-0863P) | The Honorable Donald Rosier, Chairman, Jefferson County Board of Commissioners, 100 Jefferson County Parkway, Golden, CO 80419 | Jefferson County Department of Planning and Zoning, 100 Jefferson County Parkway, Golden, CO 80419 | June 28, 2013 | 080087
Larimer (FEMA Docket No.: B-1286) | City of Fort Collins (12-08-0677P) | The Honorable Karen Weitkunat, Mayor, City of Fort Collins, P.O. Box 580, Fort Collins, CO 80521 | Stormwater Utilities Department, 700 Wood Street, Fort Collins, CO 80521 | February 28, 2013 | 080102
Larimer (FEMA Docket No.: B-1286) | Unincorporated areas of Larimer County (12-08-0677P) | The Honorable Lew Gaiter III, Chairman, Larimer County Board of Commissioners, P.O. Box 1190, Fort Collins, CO 80522 | Larimer County Engineering Department, 200 West Oak Street, Fort Collins, CO 80521 | February 28, 2013 | 080101
Mesa (FEMA Docket No.: B-1298) | Unincorporated areas of Mesa County (12-08-0541P) | The Honorable Craig J. Meis, Chairman, Mesa County Board of Commissioners, P.O. Box 20000, Grand Junction, CO 81502 | Mesa County Combined Services Department, 200 South Spruce Street, Grand Junction, CO 81501 | May 2, 2013 | 080115
Weld (FEMA Docket No.: B-1308) | Unincorporated areas of Weld County (12-08-0745P) | The Honorable Sean Conway, Chairman, Weld County Board of Commissioners, P.O. Box 758, Greeley, CO 80632 | Weld County Public Works Department, 1111 H Street, Greeley, CO 80632 | May 3, 2013 | 080266
Florida:
Alachua (FEMA Docket No.: B-1308) | City of Gainesville (12-04-7870P) | The Honorable Craig Lowe, Mayor, City of Gainesville, 200 East University Avenue, Gainesville, FL 32601 | Public Works Department, 306 Northeast 6th Avenue, Gainesville, FL 32601 | May 24, 2013 | 125107
Collier (FEMA Docket No.: B-1298) | City of Marco Island (12-04-5498P) | The Honorable Joseph R. Batte, Chairman, Marco Island City Council, 50 Bald Eagle Drive, Marco Island, FL 34145 | Planning Department, 50 Bald Eagle Drive, Marco Island, FL 34145 | May 3, 2013 | 120426
Lee (FEMA Docket No.: B-1298) | Unincorporated areas of Lee County (12-04-7939P) | The Honorable Cecil L. Pendergrass, Chairman, Lee County Board of Commissioners, P.O. Box 398, Fort Myers, FL 33902 | Lee County Community Development Department, 1500 Monroe Street, 2nd Floor, Fort Myers, FL 33901 | May 3, 2013 | 125124
Orange (FEMA Docket No.: B-1298) | City of Orlando (12-04-4951P) | The Honorable Buddy Dyer, Mayor, City of Orlando, P.O. Box 4990, Orlando, FL 32808 | Permitting Services Department, 400 South Orange Avenue, Orlando, FL 32801 | May 3, 2013 | 120186
Orange (FEMA Docket No.: B-1308) | City of Orlando (13-04-0278P) | The Honorable Buddy Dyer, Mayor, City of Orlando, P.O. Box 4990, Orlando, FL 32808 | Permitting Services Department, 400 South Orange Avenue, Orlando, FL 32801 | May 24, 2013 | 120186
Georgia:
Hall (FEMA Docket No.: B-1308) | Town of Braselton (12-04-5040P) | The Honorable Bill Orr, Mayor, Town of Braselton, P.O. Box 306, Braselton, GA 30517 | Town Hall, 4982 Highway 53, Braselton, GA 30517 | May 20, 2013 | 130343
Hall (FEMA Docket No.: B-1308) | Unincorporated areas of Hall County (12-04-5040P) | The Honorable Tom Oliver, Chairman, Hall County Board of Commissioners, P.O. Drawer 1435, Gainesville, GA 30503 | Hall County Engineering Department, 300 Green Street, Gainesville, GA 30503 | May 20, 2013 | 130466
Iowa:
Dubuque (FEMA Docket No.: B-1308) | City of Dubuque (12-07-2232P) | The Honorable Roy D. Buol, Mayor, City of Dubuque, 50 West 13th Street, Dubuque, IA 52001 | City Hall, 50 West 13th Street, Dubuque, IA 52001 | May 31, 2013 | 195180
Kentucky:
Anderson (FEMA Docket No.: B-1298) | City of Lawrenceburg (12-04-1822P) | The Honorable Edwinna Baker, Mayor, City of Lawrenceburg, P.O. Box 290, Lawrenceburg, KY 40342 | Codes Enforcement Department, 100 North Main Street, Lawrenceburg, KY 40342 | May 8, 2013 | 210003
South Carolina:
Anderson (FEMA Docket No.: B-1308) | Unincorporated areas of Anderson County (11-04-7512P) | The Honorable Thomas F. Allen, Chairman, Anderson County Council, P.O. Box 8002, Anderson, SC 29622 | Anderson County Courthouse, 101 South Main Street, Anderson, SC 29624 | May 10, 2013 | 450013
Tennessee:
Cocke (FEMA Docket No.: B-1308) | City of Newport (13-04-0214P) | The Honorable Connie Ball, Mayor, City of Newport, 300 East Main Street, Newport, TN 37821 | Planning and Zoning Department, 300 East Main Street, Newport, TN 37821 | May 31, 2013 | 475440
Cocke (FEMA Docket No.: B-1308) | Unincorporated areas of Cocke County (13-04-0214P) | The Honorable Vaughn Moore, Mayor, Cocke County, 360 East Main Street, Newport, TN 37821 | Cocke County Property Assessor's Office, 360 East Main Street, Newport, TN 37821 | May 31, 2013 | 470033

(Catalog of Federal Domestic Assistance No. 97.022, “Flood Insurance.”)

Dated: July 26, 2013.
Roy Wright,
Deputy Associate Administrator for Mitigation, Department of Homeland Security, Federal Emergency Management Agency.

[FR Doc. 2013-19437 Filed 8-9-13; 8:45 am]

BILLING CODE 9110-12-P